DEPARTMENT OF HOMELAND SECURITY

Coast Guard

33 CFR Part 117

[Docket No. USCG-2011-0013]

Drawbridge Operation Regulation; Old Brazos River, Freeport, Brazoria County, TX

AGENCY: Coast Guard, DHS.

ACTION: Notice of temporary deviation from regulations.

SUMMARY: The Commander, Eighth Coast Guard District, has issued a temporary deviation from the regulation governing the operation of the Union Pacific Railroad Swing Span Bridge across the Old Brazos River, mile 4.4, at Freeport, Brazoria County, Texas. This deviation allows the bridge to remain closed to navigation for six 13-hour periods between January 21 and January 30, 2011 and one 5-day period between February 10 and 16, 2011.

DATES: This deviation is effective from 7 a.m. on January 21, 2011 through 7 a.m. on February 10, 2011.

ADDRESSES: Documents mentioned in this preamble as being available in the docket are part of docket USCG-2011-0013 and are available online by going to http://www.regulations.gov, inserting USCG-2011-0013 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Phil Johnson, Bridge Management Specialist, Eighth Coast Guard District, Bridge Administration Branch, telephone 504-671-2128, e-mail: Philip.R.Johnson@uscg.mil. If you have questions on viewing the docket, call Renee V. Wright, Program Manager, Docket Operations, telephone 202-366-9826.

SUPPLEMENTARY INFORMATION: The Union Pacific Railroad Company has requested a temporary deviation from the published regulation for the Union Pacific Railroad Bridge across the Old Brazos River in 33 CFR 117.975: The draw of the Union Pacific railroad bridge, mile 4.4 at Freeport, shall be maintained in the fully open position, except for the crossing of trains or for maintenance.

The Union Pacific Railroad Company requests a deviation to allow the bridge to remain closed to marine traffic as follows: January 21, 22 and 23, 2011 from 7 a.m. to 8 p.m. January 28, 29 and 30, 2011 from 7 a.m. to 8 p.m. and from 5 p.m. on February 10, 2011 until 7 a.m. on February 16, 2011.

This deviation will allow the swing span of the bridge to remain in the closed-to-navigation position in order for the north end of the swing span to be cut off and for the span to be rebalanced. This work is necessary due to an ongoing bridge modification project, authorized by Coast Guard Bridge Permit Amendment P(7a-09-8) dated September 14, 2010. The project involves the eventual replacement of the swing span with a vertical lift span. Foundations for the lift towers are currently being constructed on both sides of the navigation channel. The length of the swing span must be reduced on the north side so that the lift tower may be set onto the foundation. The process of cutting the steel truss members off of the swing span, while keeping the span balanced on the pivot pier, requires that the swing span be maintained in the closed-to-navigation position for the times specified above.

Vessel traffic at the bridge site consists of commercial fishing vessels, commercial dive boats and recreational boats. There are no alternate routes. During the closure times, the balancing process for the swing span will prevent it from being able to open for emergencies. Per 33 CFR 117.975: The normal operating schedule requires that the draw of the Union Pacific railroad bridge, mile 4.4 at Freeport, shall be maintained in the fully open position, except for the crossing of trains or for maintenance.

In accordance with 33 CFR 117.35(e), the drawbridge must return to its regular operating schedule immediately at the end of the designated time periods. This deviation from the operating regulations is authorized under 33 CFR 117.35.

Dated: January 11, 2011.
David M. Frank,
Bridge Administrator,
By direction of the Commander, Eighth Coast Guard District.

[FR Doc. 2011-1806 Filed 1-26-11; 8:45 am]

BILLING CODE 9110-04-P